DEPARTMENT OF ENERGY

Federal Energy Regulatory Commission

[Docket No. RP00-324-001]

Blue Lake Gas Storage Company; Notice of Compliance Filing

September 5, 2001.

Take notice that on August 29, 2001, Blue Lake Gas Storage Company (Blue Lake), tendered for filing as part of its FERC Gas Tariff, First Revised Volume No. 1, the following tariff sheets, with an effective date of October 1, 2001:

Third Revised Sheet No. 1

Second Revised Sheet No. 15B

Second Revised Sheet No. 15C

Third Revised Sheet No. 16

First Revised Sheet No. 57

Sheet Nos. 58-123

Eighth Revised Sheet No. 153

Third Revised Sheet No. 147

First Revised Sheet No. 155A

Original Sheet No. 155B

Original Sheet No. 155C

Original Sheet No. 155D

Original Sheet No. 155E

Blue Lake states that the tariff sheets are being filed in compliance with the Commission's July 30, 2001 order to modify the nomination process for prearranged releases, to remove the park and loan services and to remove the OFO penalty and crediting of penalty revenues provisions. This filing also incorporates the required language that Shippers will receive updated information related to issued OFOs, corrects various errors in references to sections of the tariff and implements a mechanism to credit the value of retained gas back to its customers under Rate Schedule IS.

Any person desiring to protest said filing should file a protest with the Federal Energy Regulatory Commission, 888 First Street, N.E., Washington, D.C. 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-22724 Filed 9-10-01; 8:45 am]

BILLING CODE 6717-01-P